ENVIRONMENTAL PROTECTION AGENCY

[ER-FRL-8584-2]

Environmental Impacts Statements; Notice of Availability

Responsible Agency: Office of Federal Activities, General Information (202) 564-7167 or http://www.epa.gov/compliance/nepa/.

Weekly receipt of Environmental Impact Statements

Filed 07/21/2008 Through 07/25/2008.

Pursuant to 40 CFR 1506.9.

EIS No. 20080285, Final EIS, NPS, MT, Avalanche Hazard Reduction Project, Issuance of Special Use Permit for the Use of Explosives in the Park, Burlington Northern Santa Fe Railway, Glacier National Park, Flathead National Forest, Flathead and Glacier Counties, MT, Wait Period Ends: 09/02/2008, Contact: Chas Cartwright 406-888-7898.

EIS No. 20080286, Final EIS, AFS, UT, Pockets Resource Management Project, Proposes to Salvage Dead and Dying Spruce/Fir, Regenerate Aspen, and Manage Travel, Escalate Ranger District, Dixie National Forest, Garfield County, UT, Wait Period Ends: 09/02/2008, Contact: Robert G. MacWhorter 435-826-5400.

EIS No. 20080287, Final EIS, BLM, UT, Moab Field Office Planning Area, Resource Management Plan, Implementation, Grand and San Juan Counties, UT, Wait Period Ends: 09/02/2008, Contact: Brent Northrup 435-259-2100.

EIS No. 20080288, Draft Supplement, NOA, 00, Amendment 16 to the Fishery Management Plan for the Snapper Grouper Fishery, Additional Information to Analyze Four New Management Measures Alternatives for Gag and Vermillion Snapper, Implementation, South Atlantic Region, Comment Period Ends: 09/15/2008, Contact: Dr. Roy E. Crabtree 727-824-5305.

EIS No. 20080289, Final EIS, FTA, TX, Northwest Corridor Light Rail Transit Line (LRT) to Irving/Dallas/Fort Worth International Airport, Construction, Dallas County, TX, Wait Period Ends: 09/02/2008, Contact: Elizabeth Zekasko 202-366-0244.

EIS No. 20080290, Draft EIS, STB, 00, Elgin, Joliet & Eastern Railroad (Finance Docket No. 35087) Proposed Acquisition by Canadian National (CN) Railway and Grand Trunk Corporation to connect all Five of CN's Rail lines, Chicago, Illinois and Gary, Indiana, Comment Period Ends: 09/30/2008, Contact: Phillis Johnson-Ball 202-245-0304.

EIS No. 20080291, Draft EIS, AFS, CO, Colorado Roadless Areas Rulemaking, Proposes to Promulgate a State-Specific Rule to Manage Roadless Values and Characteristics, Colorado Forests with Roadless Areas include: Arapaho and Roosevelt: Grand Mesa, Uncompahgre, and Gunnison; Manti-La Sal (portion in Colorado); Pike and San Isabel; Rio Grande; Routt: San Juan; and White River National Forests, CO, Comment Period Ends: 10/23/2008, Contact: Kathy Kurtz 303-275-5083.

EIS No. 20080292, Draft EIS, IBR, CA, Millerton Lake Resource Management Plan (RMP) and General Plan, Implementation, Fresno and Madera Counties, CA, Comment Period Ends: 09/15/2008, Contact: Robert Epperson 559-269-4518.

EIS No. 20080293, Draft EIS, IBR, CA, Cachuma Lake Resource Management Plan, Implementation, Cachuma Lake, Santa Barbara County, CA, Comment Period Ends: 09/15/2008, Contact: Sharon McHale 916-989-7172.

EIS No. 20080294, Final EIS, FHW, VA, U.S. 460 Location Study Project, Transportation Improvements from I-295 in Prince George County to the Interchange of Route 460 and 58 along the Suffolk Bypass, Funding, U.S. Army COE Section 10 and 404 Permits, Prince George, Sussex, Surry, Southampton and Isle of Wight Counties, VA, Wait Period Ends: 09/02/2008, Contact: Kenneth Myers 804-775-3353.

Amended Notices

EIS No. 20080227, Second Draft Supplement, TPT, CA, Presidio Trust Management Plan (PTMP), Updated Information on the Concept for the 120-Acre Main Post District, Area B of the Presidio of San Francisco, Implementation, City and County of San Francisco, CA, Comment Period Ends: 09/19/2008, Contact: John G. Pelka 415-561-5300.

Revision to FR Notice Published: Extending Comment Period from 07/31/2008 to 09/19/2008.

Dated: July 29, 2008.
Robert W. Hargrove,
Director, NEPA Compliance Division, Office of Federal Activities.

[FR Doc. E8-17722 Filed 7-31-08; 8:45 am]

BILLING CODE 6560-50-P